INTERNATIONAL TRADE COMMISSION

[Investigations Nos. 731-TA-1043-1045 (Final)]

Polyethylene Retail Carrier Bags from China, Malaysia, and Thailand

Determinations

On the basis of the record ¹ developed in the subject investigations, the United States International Trade Commission (Commission) determines, pursuant to section 735(b) of the Tariff Act of 1930 (19 U.S.C. 1673d(b)) (the Act), that an industry in the United States is materially injured by reason of imports from China, Malaysia, and Thailand of polyethylene retail carrier bags (PRCBs), provided for in subheading 3923.21.00 of the Harmonized Tariff Schedule of the United States, that have been found by the Department of Commerce (Commerce) to be sold in the United States at less than fair value (LTFV).

¹ The record is defined in sec. 207.2(f) of the Commission's Rules of Practice and Procedure (19 CFR § 207.2(f)).

Background

The Commission instituted these investigations effective June 20, 2003, following receipt of a petition filed with the Commission and Commerce by an ad hoc coalition of U.S. polyethylene retail carrier bag producers (consisting of Inteplast Group, Ltd. (Inteplast), Livingston, NJ; PCL Packaging, Inc. (PCL), Barrie, Ontario; Sonoco Products Company (Sonoco), Hartsville, SC; Superbag Corp. (Superbag), Houston, TX; and Vanguard Plastics, Inc. (Vanguard), Farmers Branch, TX). The final phase of the investigations was scheduled by the Commission following notification of preliminary determinations by Commerce that imports of PRCBs from China, Malaysia, and Thailand were being sold at LTFV within the meaning of section 733(b) of the Act (19 U.S.C. § 1673b(b)). Notice of the scheduling of the final phase of the Commission's investigations and of a public hearing to be held in connection therewith was given by posting copies of the notice in the Office of the Secretary, U.S. International Trade Commission, Washington, DC, and by publishing the notice in the Federal Register of February 9, 2004 (69 FR 6004). The hearing was held in Washington, DC, on June 10, 2004, and all persons who requested the opportunity were permitted to appear in person or by counsel.

The Commission transmitted its determinations in these investigations to the Secretary of Commerce on August 2, 2004. The views of the Commission are contained in USITC Publication 3710 (July 2004), entitled Polyethylene Retail Carrier Bags from China, Malaysia, and Thailand: Investigations Nos. 731-TA-1043-1045 (Final).

Issued: August 3, 2004.
By order of the Commission.
Marilyn R. Abbott,
Secretary to the Commission.

[FR Doc. 04-18013 Filed 8-5-04; 8:45 am]

BILLING CODE 7020-02-P